DEPARTMENT OF LABOR

Office of the Secretary

Submission for OMB Review; Comment Request

November 28, 2000.

The Department of Labor (DOL) has submitted the following public information collection requests (ICRs) to the Office of Management and Budget (OMB) for review and approval in accordance with the Paperwork Reduction Act of 1995 (Pub. L. 104-13, 44 U.S.C. Chapter 35). A copy of each individual ICR, with applicable supporting documentation, may be obtained by calling the Department of Labor. To obtain documentation for BLS, ETA, PWBA, and OASAM contact Karin Kurz ((202) 693-4127 of by E-mail to Kurz-Karin@dol.gov). To obtain documentation for ESA, MSHA, OSHA, and VETS contact Darrin King ((202) 693-4129 or by E-Mail to King-Darrin@dol.gov).

Comments should be sent to Office of Information and Regulatory Affairs, Attn: OMB Desk Officer for BLS, DM, ESA, ETA, MSHA, OSHA, PWBA, or VETS, Office of Management and Budget, Room 10235, Washington, DC 20503 ((202) 395-7316), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Type of Review: Extension of a currently approved collection.

Agency: Mine Safety and Health Administration (MSHA).

Title: Mine Rescue Teams: Arrangements for Emergency Medical Assistance and Arrangements for Transportation for Injured Persons.

OMB Number: 1219-0078.

Affected Public: Business or other for-profit.

Cite/ reference | Total respondents | Frequency | Total annual responses | Average time per response (hours) | Burden (hours)
49.2 | 1,145 | On occasion | 147 | 1.00 | 146
49.3 & 4 | 10 | On occasion | 10 | 2.00 | 20
49.6 | 520 | Bimonthly | 28,080 | 0.31 | 8,517
49.7 | 520 | Annually | 3,120 | 2.13 | 6,630
49.8 | 260 | Annually | 14,456 | 0.60 | 8,723
49.9 | 1,145 | On occasion | 147 | 2.00 | 293
75.1713-1 | 921 | On occasion | 116 | 2.00 | 233
77.1702 | 1,601 | On occasion | 206 | 2.00 | 413
Totals | 6,122 |  | 46,282 | 0.54 | 24,975

Total Annualized Capital/Startup Costs: $0.

Total Annual Costs (operating/maintaining systems or purchasing services): $468,080.

Description: Operators of small and remote underground mines or underground mines operating under special mining conditions may apply for permission to provide alternative mine rescue capability. The intent of this requirement is that such mines establish the best possible rescue response available given their unique circumstances.

Ira L. Mills,
Departmental Clearance Officer.

[FR Doc. 00-31041 Filed 12-5-00; 8:45 am]

BILLING CODE 4510-43-M